FEDERAL COMMUNICATIONS COMMISSION

47 CFR Parts 1, 2, and 97

[WT Docket No. 04-140; FCC 04-79]

Amateur Service Rules

AGENCY: Federal Communications Commission.

ACTION: Proposed rule.

SUMMARY: This document proposes to revise operating privileges for amateur radio service licensees as well as to eliminate obsolete and duplicative rules in the Amateur Radio Service. We believe that these proposals will promote the development of the amateur radio service by providing licensees greater flexibility in the utilization of amateur service frequencies; eliminate unduly burdensome or duplicative requirements that may discourage individuals from becoming amateur radio service licensees; and promote efficient use of spectrum allocated to the Amateur Radio Service.

DATES: Submit comments on or before September 16, 2004, and reply comments are due on or before October 1, 2004.

ADDRESSES: Federal Communications Commission, 445 12th Street, SW., Washington, DC 20554. See SUPPLEMENTARY INFORMATION for filing instructions.

FOR FURTHER INFORMATION CONTACT: William T. Cross, William.Cross@fcc.gov, Public Safety and Critical Infrastructure Division, Wireless Telecommunications Bureau, (202) 418-0680, TTY (202) 418-7233.

SUPPLEMENTARY INFORMATION: This is a summary of the Commission's Notice of Proposed Rulemaking (NPRM), WT Docket No. 04-140, FCC 04-79, adopted March 31, 2004, and released April 15, 2004. The full text of this document is available for inspection and copying during normal business hours at the FCC Reference Information Center, Portals II, 445 12th Street SW., Room CY-A257, Washington, DC 20554. This document may also be purchased from the Commission's duplicating contractor, Best Copy and Printing, Inc., Portals II, 445 12th Street, Suite CY-B402, Washington, DC 20554. Alternative formats are available to persons with disabilities by contacting Brian Millin at (202) 418-7426, or TTY (202) 418-7365, or at brian.millin@fcc.gov.

1. The Commission initiated this proceeding to revise operating privileges for amateur radio service licensees as well as to eliminate obsolete and duplicative rules in the Amateur Radio Service. These proposals to amend the part 97 Amateur Radio Service rules were made in response to the filing of nineteen petitions for rulemaking and one informal request. The Commission found that because some of the petitions have presented sufficient evidence to warrant proposing rule changes, and in the interest of administrative efficiency, it consolidated these matters in the Order. Specifically, the Commission proposed to revise the operating privileges of amateur radio operators in four high frequency bands; permit auxiliary stations to transmit on the 2 m amateur service band; permit amateur stations to transmit spread spectrum communications on the 1.25 m band; permit amateur stations to re-transmit communications from the International Space Station; allow amateur service licensees to designate the amateur radio club to receive their call sign, in memoriam; prohibit an applicant from filing more than one application for a specific vanity call sign; eliminate unnecessary restrictions imposed on certain equipment manufacturers; allow amateur radio stations in or near Alaska more flexibility in providing emergency communications; and eliminate unnecessary rules in the amateur radio operator license examination system.

I. Procedural Matters

A. Ex Parte Rules—Permit-but-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, 47 CFR 1.415, 1.419, interested parties may file comments on or before September 16, 2004, and reply comments on or before October 1, 2004. Comments may be filed using the Commission's Electronic Comment Filing System (ECFS) or by filing paper copies.

4. Comments filed through the ECFS can be sent as an electronic file via the Internet to http://www.fcc.gov/e-file/ecfs.html. Generally, one copy of an electronic submission must be filed. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

5. Parties who chose to file by paper must file an original and four copies of each filing. The docket number appearing in the caption of this proceeding must appear in each comment or filing. All filings must be sent to the Commission's Secretary, Marlene H. Dortch, Office of the Secretary, Federal Communications Commission, 445 12th Street, SW., Room TW-A325, Washington, DC 20554.

6. For further information, contact William T. Cross, Public Safety and Critical Infrastructure Division, Wireless Telecommunications Bureau, (202) 418-0680, or TTY (202) 418-7233.

C. Paperwork Reduction Act

7. This NPRM does not contain either a proposed or modified information collection requirement.

II. Initial Regulatory Flexibility Analysis

8. The Regulatory Flexibility Act of 1980, as amended (RFA), requires an initial regulatory flexibility analysis to be prepared for notice and comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which is independently owned and operated, is not dominant in its field of operation, and satisfies any additional criteria established by the Small Business Administration (SBA).

A. Need for, and Objectives of, the Proposed Rules

9. In the NPRM, we propose to amend the rules that apply to how an individual who has qualified for an amateur service operator license and is the control operator of an amateur radio station can use an amateur radio station to pursue the basis and purpose of the amateur service. The proposed rules apply exclusively to individuals who are licensees in the amateur radio service and to individuals who are control operators of amateur radio stations. Such amendments would be in the public interest because they would allow more flexibility in the way an amateur radio station can be used by a licensee, would allow the control operator of an amateur radio station additional flexibility in the operation of the station, and would take advantage of technological developments in equipment and communication techniques that have occurred since the Commission last considered operating privileges in the amateur radio service.

B. Legal Basis for Proposed Rules

10. The proposed action is authorized under sections 4(i), 4(j), and 303(r), of the Communications Act of 1934, as amended, 47 U.S.C. 154(i), 154(j), and 303(r).

C. Description and Estimate of the Number of Small Entities to Which the Proposed Rules Will Apply

11. The Regulatory Flexibility Act of 1980, as amended (RFA), requires an initial regulatory flexibility analysis to be prepared for notice and comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (i) Is independently owned and operated; (ii) is not dominant in its field of operation; and (iii) satisfies any additional criteria established by the Small Business Administration (SBA).

D. Description of Projected Reporting, Recordkeeping, and Other Compliance Requirements

12. None.

E. Steps Taken To Minimize Significant Economic Impact on Small Entities, and Significant Alternatives Considered

13. The rules proposed in the NPRM, potentially could affect manufactures of amateur radio equipment. Based on requests from manufactures for certification of amateur radio transmitters and receivers, we believe that there are between five and ten manufactures of amateur radio equipment and that none of these manufactures are small entities. The proposed rule changes, if adopted, would apply to the control operator of an amateur radio station and would not result in a mandatory change in manufactured amateur radio equipment. Therefore, we certify that the proposals in this NPRM, if adopted, will not have a significant economic impact on a substantial number of small entities. The Commission will send a copy of the NPRM, including a copy of this Initial Regulatory Flexibility Certification, to the Chief Counsel for Advocacy of the SBA. This initial certification will also be published in the Federal Register.

F. Federal Rules That May Duplicate, Overlap, or Conflict With the Proposed Rules

14. None.

III. Ordering Clauses

15. The Commission's Consumer and Governmental Affairs Bureau, Reference Information Center, shall send a copy of this Notice of Proposed Rulemaking and Order, including the Initial Regulatory Flexibility Certification, to the Chief Counsel for Advocacy of the Small Business Administration.

List of Subjects

47 CFR Parts 1 and 2

Radio.

47 CFR Part 97

Radio, Volunteers.

Federal Communications Commission.
William F. Caton,
Deputy Secretary.

Proposed Rules

For reasons discussed in the preamble, the Federal Communications Commission proposes to amend 47 CFR parts 1, 2, and 97 as follows:

PART 1—APPLICATION REQUIREMENTS AND PROCEDURES

1. The authority citation for part 1 continues to read as follows:

Authority: 47 U.S.C. 151, 154(i), 154(j), 155, 225, 303(r), 309, and 325(e).

2. Section 1.934 is amended by redesignating paragraphs (d)(3) and (d)(4), as (d)(4) and (d)(5), and adding a new paragraph (d)(3) to read as follows:

§ 1.934 Defective applications and dismissal.

* * * * *

(d) * * *

(3) It includes a list of amateur station vanity call signs in order of preference and requests, as the first preferred call sign, the same call sign requested on another application filed on the same day by the same applicant.

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Section 2.106 is amended by revising United States footnote US267 to read as follows:

§ 2.106 Table of Frequency Allocations.

* * * * *

US267 In the band 902-928 MHz, amateur radio stations shall transmit on the frequency segments 902.0-902.4, 902.6-904.3, 904.7-925.3, 925.7-927.3, and 927.7-928.0 MHz within the states of Colorado and Wyoming, bounded by the area of latitude 39° N. to 42° N. and longitude 103° W. to 108° W.

* * * * *

5. Section 2.815 is amended by revising paragraphs (b) and (c) and by removing paragraphs (d) and (e) to read as follows:

§ 2.815 External radio frequency power amplifiers.

* * * * *

(b) After April 27, 1978, no person shall manufacture, sell or lease, offer for sale or lease (including advertising for sale or lease), or import, ship, or distribute for the purpose of selling or leasing or offering for sale or lease, any external radio frequency power amplifier unless the amplifier has been approved in accordance with subpart J of this part and other relevant parts of this chapter. This proscription shall not apply to the marketing to an amateur radio operator of an external radio frequency power amplifier provided the amplifier is for use at an amateur radio station and the requirements of §§ 97.315 and 97.317 of this chapter are met.

(c) No person shall manufacture, sell or lease, offer for sale or lease (including advertising for sale or lease) or import, ship or distribute for the purpose of selling or leasing or offering for sale or lease, any external radio frequency power amplifier unless the amplifier has received a grant of certification in accordance with subpart J of this part and other relevant parts of this chapter. No more than 10 external radio frequency power amplifiers may be constructed for evaluation purposes in preparation for the submission of an application for a grant of certification. This proscription shall not apply to the marketing to a licensed amateur radio operator of an external radio frequency power amplifier provided the amplifier is for use at an amateur radio station and the requirements of §§ 97.315 and 97.317 of this chapter are met.

6. Section 2.1060 is amended by removing paragraph (c), redesignating paragraph (d) as paragraph (c) and revising newly designated paragraph (c) to read as follows:

§ 2.1060 Equipment for use in the amateur radio service.

* * * * *

(c) Certification of external radio frequency power amplifiers may be denied when denial would prevent the use of these amplifiers in services other than the Amateur Radio Service.

PART 97—AMATEUR RADIO SERVICE

7. The authority citation for part 97 continues to read as follows:

Authority: 48 Stat. 1066, 1082, as amended; 47 U.S.C. 154, 303. Interpret or apply 48 Stat. 1064-1068, 1081-1105, as amended; 47 U.S.C. 151-155, 301-609, unless otherwise noted.

8. Section 97.3 is amended by removing and reserving paragraph (a)(19) and revising paragraph (c)(2) to read as follows:

§ 97.3 Definitions.

* * * * *

(c) * * *

(2) Data. Telemetry, telecommand and computer communications emissions having designators with A, C, D, F, G, H, J or R as the first symbol; 1 as the second symbol; D as the third symbol; emissions A1C and F2C having an occupied bandwidth of 500 Hz or less, and J2D. Only a digital code of a type specifically authorized in this part may be transmitted.

* * * * *

9. Section 97.19 is amended by revising paragraphs (c)(3) and (d)(1) to read as follows:

§ 97.19 Application for a vanity call sign.

* * * * *

(c) * * *

(3) Except for an applicant who is the spouse, child, grandchild, stepchild, parent, grandparent, step-parent, brother, sister, stepbrother, stepsister, aunt, uncle, niece, nephew, or in-law, and except for an applicant who is a club station license trustee acting with a statement of consent signed by the person ante mortem or the written consent of at least one relative, as listed above, of a person now deceased, the call sign shown on the license of a person now deceased is not available to the vanity call sign system for 2 years following the person's death, or for 2 years following the expiration of the license grant, whichever is sooner.

(d) * * *

(1) The applicant must request that the call sign shown on the license grant be vacated and provide a list of up to 25 call signs in order of preference. In the event that an applicant requests the same call sign as their first preferred call sign in more than one application on the same receipt day, only the first processable application received by the Commission will be considered.

* * * * *

10. Section 97.111 is amended by redesignating paragraphs (a)(2) through (a)(4) as (a)(3) through (a)(5), respectively, and adding a new paragraph (a)(2) to read as follows:

§ 97.111 Authorized transmissions.

(a) * * *

(2) Transmissions necessary to meet essential communication needs and to facilitate relief actions.

* * * * *

11. Section 97.113 is amended by revising paragraph (e) to read as follows:

§ 97.113 Prohibited transmissions.

* * * * *

(e) No station shall retransmit programs or signals emanating from any type of radio station other than an amateur station, except propagation and weather forecast information intended for use by the general public and originated from United States Government stations, and communications, including incidental music, originating on United States Government frequencies between a manned spacecraft and its associated Earth stations. Prior approval for manned spacecraft communications retransmissions must be obtained from the National Aeronautics and Space Administration. Such retransmissions must be for the exclusive use of amateur radio operators. Propagation, weather forecasts, and manned spacecraft communications retransmissions may not be conducted on a regular basis, but only occasionally, as an incident of normal amateur radio communications.

* * * * *

12. Section 97.115 is amended by revising paragraph (b)(2), redesignating paragraph (c) as paragraph (d), and adding a new paragraph (c), to read as follows:

§ 97.115 Third party communications.

* * * * *

(b) * * *

(2) The third party is not a prior amateur service licensee whose license was revoked or not renewed after hearing and re-licensing has not taken place; suspended for less than the balance of the license term and the suspension is still in effect; suspended for the balance of the license term and re-licensing has not taken place; or surrendered for cancellation following notice of revocation, suspension or monetary forfeiture proceedings. The third party may not be the subject of a cease and desist order which relates to amateur service operation and which is still in effect.

(c) No station may transmit third party communications while being automatically controlled except a station transmitting a RTTY or data emission.

* * * * *

13. Section 97.201 is amended by revising paragraph (b) to read as follows:

§ 97.201 Auxiliary station.

* * * * *

(b) An auxiliary station may transmit only on the 2 m and shorter wavelength bands, except the 144.0-144.5 MHz, 145.8-146.0 MHz, 219-220 MHz, 222.00-222.15 MHz, 431-433 MHz, and 435-438 MHz segments.

* * * * *

14. Section 97.207 is amended by revising paragraphs (g) introductory text, (g)(1), and (g)(2), by adding (g)(3) and by removing paragraphs (h) and (i) to read as follows:

§ 97.207 Space station.

* * * * *

(g) The license grantee of each space station must file the following notification with the International Bureau, FCC, Washington, DC 20554.

(1) A pre-space notification within 30 days after launch vehicle determination, but no later than 90 days before integration of the space station into the launch vehicle. This notification shall include an electronic file containing the information required by Appendix 4 of the ITU Radio Regulations in the format consistent with ITU requirements. With that notification, the license grantee of the space station shall include a description of the design and operational strategies the space station will use to mitigate orbital debris, including a casualty risk assessment if planned post-mission disposal involves atmospheric re-entry of the spacecraft. The description must include an analysis demonstrating that debris generation will not result from the conversion of chemical, pressure, or kinetic energy sources on board the spacecraft into energy that fragments the spacecraft. This demonstration should address whether stored energy will be removed at the spacecraft's end-of-life, by depleting residual fuel and leaving all fuel line valves open, venting any pressurized system, leaving all batteries in a permanent discharge state, and removing any remaining source of stored energy, or through other equivalent procedures. If any material item described in the notification changes before launch, a replacement pre-space notification shall be filed with the International Bureau. The replacement notification shall be filed no later than 90 days before integration of the space station into the launch vehicle.

(2) An in-space station notification no later than 7 days following initiation of space station transmissions. This notification must update the information contained in the pre-space notification.

(3) A post-space station notification no later than 3 months after termination of the space station transmissions. When termination of transmissions is ordered by the FCC, the notification is required no later than 24 hours after termination of transmissions.

15. Section 97.301 is amended by:

a. Revising the second and third entries to the table following paragraph (b),

b. Revising the second, third, ninth, and tenth entries to the table following paragraph (c),

c. Revising the second, third, fourth, fifth, tenth, and eleventh entries to the table following paragraph (d), and by

d. Revising the first, second, third, and fourth entries to the table following paragraph (e).

The revisions read as follows:

§ 97.301 Authorized frequency bands.

The following transmitting frequency bands are available to an amateur station located within 50 km of the Earth's surface, within the specified ITU Region, and outside any area where the amateur service is regulated by any authority other than the FCC.

* * * * *

(b) * * *

Wavelength band | ITU—Region 1 | ITU—Region 2 | ITU—Region 3 | Sharing requirements see § 97.303 (paragraph)
MF | kHz | kHz | kHz
* * * * * * *
HF | MHz | MHz | MHz
80 m | 3.50-3.725 | 3.50-3.725 | 3.50-3.725 | (a).
75 m | 3.725-3.80 | 3.725-4.00 | 3.725-3.90 | (a).
* * * * * * *

(c) * * *

Wavelength band | ITU—Region 1 | ITU—Region 2 | ITU—Region 3 | Sharing requirements see § 97.303 (paragraph)
MF | kHz | kHz | kHz
* * * * * * *
HF | MHz | MHz | MHz
80 m | 3.525-3.725 | 3.525-3.725 | 3.525-3.725 | (a).
75 m | 3.750-3.800 | 3.750-4.000 | 3.750-3.900 | (a).
* * * * * * *
15 m | 21.025-21.200 | 21.025-21.200 | 21.025-21.200
Do | 21.225-21.450 | 21.225-21.450 | 21.225-21.450
* * * * * * *

(d) * * *

Wavelength band | ITU—Region 1 | ITU—Region 2 | ITU—Region 3 | Sharing requirements see § 97.303 (paragraph)
MF | kHz | kHz | kHz
* * * * * * *
HF | MHz | MHz | MHz
80 m | 3.525-3.725 | 3.525-3.725 | 3.525-3.725 | (a).
75 m |  | 3.800-4.000 | 3.800-3.900 | (a).
40 m | 7.025-7.125 | 7.025-7.125 | 7.025-7.125 | (a).
Do |  | 7.175-7.300 |  | (a).
* * * * * * *
15 m | 21.025-21.200 | 21.025-21.200 | 21.025-21.200
Do | 21.275-21.450 | 21.275-21.450 | 21.275-21.450
* * * * * * *

(e) * * *

Wavelength band | ITU—Region 1 | ITU—Region 2 | ITU—Region 3 | Sharing requirements see § 97.303 (paragraph)
HF | MHz | MHz | MHz
80 m | 3.525-3.725 | 3.525-3.725 | 3.525-3.725 | (a).
40 m | 7.025-7.075 | 7.025-7.125 | 7.025-7.075 | (a).
15 m | 21.025-21.2 | 21.025-21.2 | 21.025-21.2
10 m | 28.0-28.5 | 28.0-28.5 | 28.0-28.5
* * * * * * *

16. Section 97.303 is amended by revising paragraph (g)(1) to read as follows:

§ 97.303 Frequency sharing requirements.

* * * * *

(g) * * *

(1) In the States of Colorado and Wyoming, bounded by the area of latitude 39° N. to 42° N. and longitude 103° W. to 108° W., an amateur station may transmit on the frequency segments 902.0-902.4, 902.6-904.3, 904.7-925.3, 925.7-927.3, and 927.7-928.0 MHz. This band is allocated on a secondary basis to the amateur service subject to not causing harmful interference to, and not receiving any interference protection from, the operation of industrial, scientific and medical devices, automatic vehicle monitoring systems, or Government stations authorized in this band.

* * * * *

17. Section 97.305 is amended by revising the fifth, sixth, seventh, eighth, and twenty-sixth entries to the table following paragraph (c) to read as follows:

§ 97.305 Authorized emission types.

* * * * *

(c) * * *

Wavelength | Frequencies band | Emission types authorized | Standards see § 97.307(f), (paragraph)
40 m | 7.000-7.075 MHz | RTTY, data | (3), (9).
Do | 7.075-7.100 MHz | Phone, image | (1), (2), (9), (11).
Do | 7.100-7.125 MHz | RTTY, data | (1), (9).
Do | 7.125-7.300 MHz | Phone, image | (1), (2).
* * * * * * *
Do | 222-225 MHz | RTTY, data, test MCW, phone, SS, image | (2), (6), (8).
* * * * * * *

18. Section 97.313 is amended by revising paragraph (c) introductory text, (c)(1) and (c)(2) to read as follows:

§ 97.313 Transmitter power standards.

* * * * *

(c) No station may transmit with a transmitter power exceeding 200 W PEP:

(1) On the 10.10-10.15 MHz segment;

(2) When the control operator is a Novice Class operator or a Technician Class operator who has received credit for proficiency in telegraphy in accordance with the international requirements; or

* * * * *

19. Section 97.315 is revised to read as follows:

§ 97.315 Certification of external RF power amplifiers.

(a) Any external RF power amplifier (see § 2.815 of the FCC Rules) manufactured or imported for use at an amateur radio station must be certificated for use in the amateur service in accordance with subpart J of part 2 of the FCC Rules. No amplifier capable of operation below 144 MHz may be constructed or modified by a non-amateur service licensee without a grant of certification from the FCC.

(b) The requirement of paragraph (a) of this section does not apply if one or more of the following conditions are met:

(1) The amplifier is constructed or modified by an amateur radio operator for use at an amateur station.

(2) The amplifier was manufactured before April 28, 1978, and has been issued a marketing waiver by the FCC, or the amplifier was purchased before April 28, 1978, by an amateur radio operator for use at that operator's station.

(3) The amplifier is sold to an amateur radio operator or to a dealer, the amplifier is purchased in used condition by a dealer, or the amplifier is sold to an amateur radio operator for use at that operator's station.

(c) Any external RF power amplifier appearing in the Commission's database as certificated for use in the amateur service may be marketed for use in the amateur service.

20. Section 97.317 is revised to read as follows:

§ 97.317 Standards for certification of external RF power amplifiers.

(a) To receive a grant of certification, the amplifier must:

(1) Satisfy the spurious emission standards of § 97.307(d) or (e) of this part, as applicable, when the amplifier is operated at the lesser of 1.5 kW PEP or its full output power and when the amplifier is placed in the “standby” or “off” positions while connected to the transmitter.

(2) Not be capable of amplifying the input RF power (driving signal) by more than 15 dB gain. Gain is defined as the ratio of the input RF power to the output RF power of the amplifier where both power measurements are expressed in peak envelope power or mean power.

(b) Certification may be denied when the Commission determines the amplifier can be used in services other than the Amateur Radio Service.

21. Section 97.401 is revised to read as follows:

§ 97.401 Operation during a disaster.

A station in, or within 92.6 km of, Alaska may transmit emissions J3E and R3E on the channel at 5.1675 MHz for emergency communications. The channel must be shared with stations licensed in the Alaska private fixed service. The transmitter power must not exceed 150 W. A station in, or within 92.6 km of, Alaska may transmit communications for tests and training drills necessary to ensure the establishment, operation, and maintenance of emergency communication systems.

22. Section 97.407 is amended by revising paragraph (b) to read as follows:

§ 97.407 Radio amateur civil emergency service.

* * * * *

(b) The frequency bands, segments, and emissions authorized to the control operator are available to stations transmitting communications in RACES on a shared basis with the amateur service. In the event of an emergency which necessitates the invoking of the President's War Emergency Powers under the provisions of section 706 of the Communications Act of 1934, as amended, 47 U.S.C. 606, RACES stations and amateur stations participating in RACES may only transmit on the frequency segments authorized pursuant to part 214 of this chapter.

* * * * *

23. Section 97.505 is amended by adding paragraph (a)(10) to read as follows:

§ 97.505 Element credit.

(a) * * *

(10) An expired FCC-issued Technician Class license document and a CSCE indicating the examinee has passed a telegraphy examination: Element 1.

* * * * *

24. Section 97.509 is amended by revising paragraphs (a) and (m) to read as follows:

§ 97.509 Administering VE requirements.

(a) Each examination for an amateur operator license must be administered by a team of at least 3 VEs at an examination session coordinated by a VEC. The number of examinees at the session may be limited.

* * * * *

(m) After the administration of a successful examination for an amateur service operator license, the administering VEs or the VE session manager must submit the application document to the coordinating VEC according to the coordinating VEC's instructions.

25. Section 97.519 is amended by revising paragraph (b) introductory text to read as follows:

§ 97.519 Coordinating examination sessions.

* * * * *

(b) At the completion of each examination session, the coordinating VEC must collect applicant information and test results from the administering VEs. The coordinating VEC must:

* * * * *

[FR Doc. 04-18718 Filed 8-16-04; 8:45 am]

BILLING CODE 6712-01-P